COMMITTEE FOR THE IMPLEMENTATION OF TEXTILE AGREEMENTS

Determination Under the Textile and Apparel Commercial Availability Provision of the Dominican Republic-Central America-United States Free Trade Agreement (CAFTA-DR Agreement)

AGENCY: The Committee for the Implementation of Textile Agreements.

ACTION: Determination to add a product in unrestricted quantities to Annex 3.25 of the CAFTA-DR Agreement.

DATES: Effective Date: September 15, 2008.

SUMMARY: The Committee for the Implementation of Textile Agreements (CITA) has determined that certain raschel knit open work crepe fabrics, as specified below, are not available in commercial quantities in a timely manner in the CAFTA-DR countries. The product will be added to the list in Annex 3.25 of the CAFTA-DR Agreement in unrestricted quantities.

FOR FURTHER INFORMATION CONTACT: Maria Dybczak, Office of Textiles and Apparel, U.S. Department of Commerce, (202) 482-3651.

FOR FURTHER INFORMATION ON-LINE: http://web.ita.doc.gov/tacgi/CaffaReqTrack.nsf. Reference number: 83.2008.08.08.Fabric.SoriniSametforHansoll.

SUPPLEMENTARY INFORMATION:

Authority: Section 203(o)(4) of the Dominican Republic-Central America-United States Free Trade Agreement Implementation Act (CAFTA-DR Act); the Statement of Administrative Action (SAA), accompanying the CAFTA-DR Act; Presidential Proclamations 7987 (February 28, 2006) and 7996 (March 31, 2006).

Background

The CAFTA-DR Agreement provides a list in Annex 3.25 for fabrics, yarns, and fibers that the Parties to the CAFTA-DR Agreement have determined are not available in commercial quantities in a timely manner in the territory of any Party. The CAFTA-DR Agreement provides that this list may be modified pursuant to Article 3.25(4)-(5), when the President of the United States determines that a fabric, yarn, or fiber is not available in commercial quantities in a timely manner in the territory of any Party. See Annex 3.25, Note; see also section 203(o)(4)(C) of the CAFTA-DR Act.

The CAFTA-DR Act requires the President to establish procedures governing the submission of a request and providing opportunity for interested entities to submit comments and supporting evidence before a commercial availability determination is made. In Presidential Proclamations 7987 and 7996, the President delegated to CITA the authority under section 203(o)(4) of CAFTA-DR Act for modifying the Annex 3.25 list. On March 21, 2007, CITA published final procedures it would follow in considering requests to modify the Annex 3.25 list (72 FR 13256) (“procedures”).

On August 8, 2008, the Chairman of CITA received a Request for a commercial availability determination (“Request”) under the CAFTA-DR from Sorini Samet & Associates, LLC, on behalf of Hansoll Textile Ltd., for certain raschel knit open work crepe fabrics. On August 12, 2008, in accordance with CITA's procedures, CITA notified interested parties of the Request and posted the Request on the dedicated Web site for CAFTA-DR Commercial Availability. In its notification, CITA advised that any Response with an Offer to Supply (“Response”) must be submitted by August 22, 2008, and any Rebuttal be submitted by August 28, 2008. No interested entity submitted a Response advising CITA of its objection to the Request and its ability to supply the subject product.

In accordance with section 203(o)(4)(C) of the CAFTA-DR Act, and CITA's procedures, as no interested entity submitted a Response objecting to the Request and demonstrating its ability to supply the subject product, CITA has determined to add the specified fabric to the list in Annex 3.25 of the CAFTA-DR Agreement.

The subject fabric has been added to the list in Annex 3.25 of the CAFTA-DR Agreement in unrestricted quantities. A revised list has been posted on the dedicated Web site for CAFTA-DR Commercial Availability.

Specifications: Raschel Knit Open Work Crepe

HTS: 6005.22.00; 6005.24.00

Fiber Content: 75% cotton, 22% nylon, wrapped around 3% spandex.

Yarn Size:

Cotton:

English: 17.2/s-18.9/2

Metric: 28.50/2-31.5/2

Nylon:

English: 38-42 denier/10 filament

Metric: 213.75-236.25 metric/10 filament

Spandex:

English: 199.50-220.50 denier

Metric: 40.85-45.15 metric

Machine Gauge: 18

Number of Bars: 18

Weight:

English: 0.45 to 0.50 linear yds/lb.

Metric: 0.155-.171 kg/sq.m.

Width:

English: Not less than 54 to 58 inches, cuttable

Metric: 137.2 to 147.3 cm, cuttable

Finish: piece dyed or printed

R. Matthew Priest,
Chairman, Committee for the Implementation of Textile Agreements.

[FR Doc. E8-21480 Filed 9-12-08; 8:45 am]

BILLING CODE 3510-DS-P